DEPARTMENT OF COMMERCE

National Oceanic and Atmospheric Administration

RIN 0648-XC199

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel to consider actions affecting New England fisheries in the exclusive economic zone (EEZ). Recommendations from this group will be brought to the full Council for formal consideration and action, if appropriate.

DATES: This meeting will be held on Monday, September 17, 2012 at 9 a.m.

ADDRESSES: The meeting will be held at the Fairfield Inn & Suites, 185 MacArthur Drive, New Bedford, MA 02740; telephone: (774) 634-2000; fax: (774) 634-2001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Advisors will review scallop survey information and recommendations from the Scallop Plan Development Team for possible fishery specifications for FY2013 and FY2014 (Framework 24). The Advisors will also provide input on other measures under consideration: (1) Possible modification of Georges Bank access area opening dates; (2) measures to address sub-ACL of yellowtail flounder for the LAGC trawl fishery; (3) modification of the effective date of yellowtail sub-ACL AMs from Year 2 to Year 3; (4) leasing LAGC IFQ mid-year; and (5) expanding the observer set-aside program to include LAGC open area trips. The Advisors will discuss possible priorities for scallop related actions next year and make recommendations to the Scallop Committee for consideration. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 24, 2012.
William D. Chappell,
Acting Deputy Director, Office of Sustainable Fisheries, National Marine Fisheries Service.

[FR Doc. 2012-21319 Filed 8-28-12; 8:45 am]

BILLING CODE 3510-22-P